DEPARTMENT OF COMMERCE

National Institute of Standards and Technology

National Strategy for Trusted Identities in Cyberspace (NSTIC) Governance Workshop

AGENCY: National Institute of Standards & Technology (NIST), Commerce.

ACTION: Notice of public workshop.

SUMMARY: NIST announces the National Strategy for Trusted Identities in Cyberspace (NSTIC) Governance Workshop to be held on Thursday, June 9, 2011, 9 a.m. until 5 p.m. and Friday, June 10, 2011, 9 a.m. until 5 p.m. This workshop will identify and discuss various governance models to administer the process for policy and standards adoption for the Identity Ecosystem Framework in accordance with the Strategy. The goals of this workshop are to provide a venue for discussion and additional clarity on the forthcoming Notice of Inquiry (NOI) on models for a governance structure for the NSTIC Identity Ecosystem, including an overview of key issues pertaining to structure, stakeholder representation, steering group initiation, and priorities. Additional workshops will be announced in the Federal Register.

DATES: The National Strategy for Trusted Identities in Cyberspace (NSTIC) Governance Workshop will be held Thursday, June 9, 2011, 9 a.m. until 5 p.m. and Friday, June 10, 2011, 9 a.m. until 5 p.m. Attendees must register by 5 p.m. E.d.t. on June 3, 2011.

ADDRESSES: The event will be held at the Grand Hyatt Washington, 1000 H St., NW., Washington, DC 20001.

FOR FURTHER INFORMATION CONTACT: For further information contact Annie Sokol by e-mail at annie.sokol@nist.gov or by phone at (301) 975-2006. To register, go to: http://www.nist.gov/itl/nstic-workshop-june2011.cfm. Additional workshop details will be available at http://www.nist.gov/nstic/.

SUPPLEMENTARY INFORMATION: NIST plans to host several NSTIC workshops. The workshop schedules, registration information, and a list of frequently asked questions regarding these workshops will be posted on the Internet as information becomes available at: (http://www.nist.gov/nstic/).

NIST plans to publish a Notice of Inquiry (NOI) that will seek public comment from all stakeholders, including commercial, academic and civil society sectors, on potential models, key assumptions, and recommendations for structuring a private sector-led steering group for the NSTIC Identity Ecosystem.

The purpose of the first NSTIC Workshop, on June 9 and 10, 2011, is to provide further clarity on the upcoming NOI and to offer opportunities to meet with stakeholders and to gather feedback. Discussions and breakout meetings relating to structure, stakeholder representation, steering group initiation, and priorities of the steering group will be held.

Anyone wishing to attend this meeting must register at https://www.fbcinc.com/nist_NSTIC/atreg1.aspx by 5 p.m. E.d.t. on June 3, 2011, in order to attend.

The NSTIC is available at http://www.whitehouse.gov/sites/default/files/rss_viewer/NSTICstrategy_041511.pdf. The NIST Web site for NSTIC and its implementation is available at http://www.nist.gov/nstic.

Dated: May 17, 2011.
Michael D. Herman,
Executive Officer for Administration.

[FR Doc. 2011-12451 Filed 5-19-11; 8:45 am]

BILLING CODE 3510-13-P